DEPARTMENT OF THE INTERIOR

Fish and Wildlife Service

[FWS-R2-ES-2018-N161; FXES11130200000-190-FF02ENEH00]

Endangered and Threatened Wildlife and Plants; Initiation of 5-Year Status Reviews of 36 Species in Arizona, New Mexico, Texas, Utah, and Mexico

AGENCY: Fish and Wildlife Service, Interior.

ACTION: Notice of initiation of reviews; request for information.

SUMMARY: We, the U.S. Fish and Wildlife Service, are conducting 5-year status reviews under the Endangered Species Act of 36 animal and plant species. A 5-year status review is based on the best scientific and commercial data available at the time of the review; therefore, we are requesting submission of any such information that has become available since the last review for the species.

DATES: To ensure consideration, we are requesting submission of new information no later than August 26, 2019. However, we will continue to accept new information about any listed species at any time.

ADDRESSES: For how to submit information, see Request for Information and How Do I Ask Questions or Provide Information? in the SUPPLEMENTARY INFORMATION section.

FOR FURTHER INFORMATION CONTACT: For information on a particular species, contact the appropriate person or office listed in the table in the SUPPLEMENTARY INFORMATION section. Individuals who are hearing impaired or speech impaired may call the Federal Relay Service at 800-877-8339 for TTY assistance.

SUPPLEMENTARY INFORMATION:

Why do we conduct a 5-year review?

Under the Endangered Species Act of 1973, as amended (ESA; 16 U.S.C. 1531 et seq.), we maintain Lists of Endangered and Threatened Wildlife and Plants (which we collectively refer to as the List). Wildlife and plants on the List can be found at http://ecos.fws.gov/tess_public/pub/listedAnimals.jsp and http://ecos.fws.gov/tess_public/pub/listedPlants.jsp, respectively. Section 4(c)(2)(A) of the ESA requires us to review each listed species' status at least once every 5 years. Our regulations at 50 CFR 424.21 require that we publish a notice in the Federal Register announcing those species under active review. For additional information about 5-year reviews, refer to our factsheet at http://www.fws.gov/endangered/what-we-do/recovery-overview.html.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the ESA); and

(E) Other new information, data, or corrections, including but not limited to taxonomic or nomenclatural changes, identification of erroneous information contained in the List, and improved analytical methods.

Any new information will be considered during the 5-year review and will also be useful in evaluating the ongoing recovery programs for the species.

Which species are under review?

The species in the following table are under active 5-year status review.

Common name | Scientific name | Listing status | Current range | Final listing rule (Federal Register citation and publication date) | Contact person, phone, email | Contact person's U.S. mail address
Animals
Big Bend gambusia Government Canyon Bat Cave meshweaver | Gambusia gaigei Cicurina vespera | Endangered Endangered | Texas (USA) Texas (USA) | 32 FR 4001 3/11/67 65 FR 81419 12/26/00. | Adam Zerrenner, 512-490-0057 (office phone), 512-577-6594 (direct line), or Adam_Zerrenner@fws.gov (email) | U.S. Fish and Wildlife Service, Austin Ecological Services Field Office, 10711 Burnet Road, Suite 200, Austin, TX 78758.
Madla's Cave meshweaver | Cicurina madla | Endangered | Texas (USA) | 65 FR 81419 12/26/00
Austin blind salamander | Eurycea waterlooensis | Endangered | Texas (USA) | 78 FR 51277 8/20/13
Barton Springs salamander | Eurycea sosorum | Endangered | Texas (USA) | 62 FR 23377 4/30/97
Chupadera springsnail | Pyrgulopsis chupaderae | Endangered | New Mexico (USA) | 77 FR 41088 7/12/12 | Susan Millsap, 505-761-4781 (phone) or Susan_Millsap@fws.gov (email) | U.S. Fish and Wildlife Service, New Mexico Ecological Services Field Office, 2105 Osuna Rd. NE, Albuquerque, NM 87113-1001.
Cokendolpher Cave harvestman Diamond tryonia | Texella cokendolpheri Pseudotryonia adamantina | Endangered Endangered | Texas (USA) Texas (USA) | 65 FR 81419 12/26/00 78 FR 41227 7/09/13. | Adam Zerrenner, 512-490-0057 (office phone), 512-577-6594 (direct line), or Adam_Zerrenner@fws.gov (email) | U.S. Fish and Wildlife Service, Austin Ecological Services Field Office, 10711 Burnet Road, Suite 200, Austin, TX 78758.
Diminutive amphipod | Gammarus hyalleloides | Endangered | New Mexico and Texas (USA) | 78 FR 41227 7/09/13
Gonzales tryonia | Tryonia circumstriata (=stocktonensis) | Endangered | Texas (USA) | 78 FR 41227 7/09/13
Helotes mold beetle | Batrisodes venyivi | Endangered | Texas (USA) | 65 FR 81419 12/26/00
Jemez Mountains salamander | Plethodon neomexicanus | Endangered | New Mexico (USA) | 78 FR 55599 9/10/13 | Susan Millsap, 505-761-4781 (phone) or Susan_Millsap@fws.gov (email) | U.S. Fish and Wildlife Service, New Mexico Ecological Services Field Office, 2105 Osuna Rd. NE, Albuquerque, NM 87113-1001.
Narrow-headed gartersnake Northern Mexican gartersnake | Thamnophis rufipunctatus Thamnophis eques megalops | Threatened Threatened | Arizona and New Mexico (USA) Arizona and New Mexico (USA) | 79 FR 38677 7/08/14 79 FR 38677 7/08/14. | Jeff Humphrey, 602-242-0210 (phone) or Jeff_Humphrey@fws.gov (email) | U.S. Fish and Wildlife Service, Arizona Ecological Services Office, 9828 North 31st Avenue, #C3, Phoenix, AZ 85051-2517.
Pecos amphipod Phantom springsnail Phantom tyronia | Gammarus pecos Pyrgulopsis texana Tryonia cheatumi | Endangered Endangered Endangered | Texas (USA) Texas (USA) Texas (USA) | 78 FR 41227 7/09/13 78 FR 41227 7/09/13. 78 FR 41227 7/09/13. | Adam Zerrenner, 512-490-0057 (office phone), 512-577-6594 (direct line), or Adam_Zerrenner@fws.gov (email) | U.S. Fish and Wildlife Service, Austin Ecological Services Field Office, 10711 Burnet Road, Suite 200, Austin, TX 78758.
San Bernardino springsnail | Pyrgulopsis bernardina | Threatened | Arizona (USA) | 77 FR 23060 4/17/12 | Jeff Humphrey, 602-242-0210 (phone) or Jeff_Humphrey@fws.gov (email) | U.S. Fish and Wildlife Service, Arizona Ecological Services Office, 9828 North 31st Avenue, #C3, Phoenix, AZ 85051-2517.
Sharpnose shiner Smalleye shiner | Notropis oxyrhynchus Notropis buccula | Endangered Endangered | Texas (USA) Texas (USA) | 79 FR 45273 8/04/14 79 FR 45273 8/04/14. | Debra Bills, 817-277-1100, ext. 2113 (phone), or Debra_Bills@fws.gov (email) | U.S. Fish and Wildlife Service, Arlington Ecological Services Field Office, 2005 NE Green Oaks Blvd., Suite 140, Arlington, TX 76006.
Soccoro springsnail | Pyrgulopsis neomexicana | Endangered | New Mexico (USA) | 56 FR 49646 9/30/91 | Susan Millsap, 505-761-4781 (phone) or Susan_Millsap@fws.gov (email) | U.S. Fish and Wildlife Service, New Mexico Ecological Services Field Office, 2105 Osuna Rd. NE, Albuquerque, NM 87113-1001.
Thick-billed parrot | Rhynchopsitta pachyrhyncha | Endangered | Mexico | 35 FR 8491 6/2/70 | Jeff Humphrey, 602-242-0210 (phone) or Jeff_Humphrey@fws.gov (email) | U.S. Fish and Wildlife Service, Arizona Ecological Services Office, 9828 North 31st Avenue, #C3, Phoenix, AZ 85051-2517.
Zuni bluehead sucker Koster's springsnail Noel's amphipod | Catostomus discobolus yarrowi Juturnia kosteri Gammarus desperatus | Endangered Endangered Endangered | Arizona and New Mexico (USA) New Mexico (USA) New Mexico (USA) | 79 FR 43131 7/24/14 79 FR 43131 7/24/14. 79 FR 43131 7/24/14. | Susan Millsap, 505-761-4781 (phone) or Susan_Millsap@fws.gov (email) | U.S. Fish and Wildlife Service, New Mexico Ecological Services Field Office, 2105 Osuna Rd. NE, Albuquerque, NM 87113-1001.
Pecos assiminea snail | Assiminea pecos | Endangered | New Mexico and Texas (USA) | 70 FR 46304 8/09/05
Roswell springsnail | Pyrgulopsis roswellensis | Endangered | New Mexico (USA) | 70 FR 46304 8/09/05
Pecos bluntnose shiner | Notropis simus pecosensis | Threatened | New Mexico (USA) | 52 FR 5295 2/20/87
Plants
Acuña cactus Fickeisen plains cactus Gierisch mallow | Echinomastus erectocentrus var. acunensis Pediocactus peeblesianus fickeiseniae Sphaeralcea gierischii | Endangered Endangered Endangered | Arizona (USA) Arizona (USA) Arizona and Utah (USA) | 78 FR 60607 10/01/13 78 FR 60607 10/01/13. 78 FR 49149 8/13/13. | Jeff Humphrey, 602-242-0210 (phone) or Jeff_Humphrey@fws.gov (email) | U.S. Fish and Wildlife Service, Arizona Ecological Services Office, 9828 North 31st Avenue, #C3, Phoenix, AZ 85051-2517.
Holy ghost ipomopsis | Ipomopsis sancti-spiritus | Endangered | New Mexico (USA) | 59 FR 13836 3/23/94 | Susan Millsap, 505-761-4781 (phone) or Susan_Millsap@fws.gov (email) | U.S. Fish and Wildlife Service, New Mexico Ecological Services Field Office, 2105 Osuna Rd NE, Albuquerque, NM 87113-1001.
Kearney's blue-star | Amsonia kearneyana | Endangered | Arizona (USA) | 54 FR 2131 1/19/89 | Jeff Humphrey, 602-242-0210 (phone) or Jeff_Humphrey@fws.gov (email) | U.S. Fish and Wildlife Service, Arizona Ecological Services Office, 9828 North 31st Avenue, #C3, Phoenix, AZ 85051-2517.
Terlingua Creek cat's-eye | Cryptantha crassipes | Endangered | Texas (USA) | 56 FR 49634 9/30/91 | Adam Zerrenner, 512-490-0057 (office phone), 512-577-6594 (direct line), or Adam_Zerrenner@fws.gov (email) | U.S. Fish and Wildlife Service, Austin Ecological Services Field Office, 10711 Burnet Road, Suite 200, Austin, TX 78758.
Texas golden gladecress | Leavenworthia texana | Endangered | Texas (USA) | 78 FR 56025 9/11/13 | Chuck Ardizzone, 281-286-8282 (phone) or Chuck_Ardizzone@fws.gov (email) | U.S. Fish and Wildlife Service, Texas Coastal Ecological Services, 17629 El Camino Real, Ste 211, Houston, TX 77058.
Zuni fleabane | Erigeron rhizomatus | Threatened | Arizona and New Mexico (USA) | 50 FR 16680 4/26/85 | Susan Millsap, 505-761-4781 (phone) or Susan_Millsap@fws.gov (email) | U.S. Fish and Wildlife Service, New Mexico Ecological Services Field Office, 2105 Osuna Rd NE, Albuquerque, NM 87113-1001.

Request for Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals who are hearing impaired or speech impaired may call the Federal Relay Service at 800-877-8339 for TTY assistance.

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which lead responsibility falls under Service offices located in Arizona, New Mexico, Oklahoma, and Texas can be found at http://www.fws.gov/southwest/es/ElectronicLibrary_Main.cfm (go to “Select a Document Category” and select “5-Year Review”).

Authority

This document is published under the authority of the Endangered Species Act of 1973, as amended (16 U.S.C. 1531 et seq.).

Dated: April 1, 2019.
Amy Lueders,
Regional Director, Southwest Region, U.S. Fish and Wildlife Service.

Editorial Note: This document was received for publication by the Office of the Federal Register on July 18, 2019.

[FR Doc. 2019-15666 Filed 7-25-19; 8:45 am]

BILLING CODE 4333-15-P